DEPARTMENT OF AGRICULTURE

Forest Service

Tuolumne-Mariposa Counties Resource Advisory Committee

AGENCY: Forest Service, USDA.

ACTION: Notice of meeting.

SUMMARY: The Tuolumne-Mariposa Counties Resource Advisory Committee will meet on September 10, 2012 at the City of Sonora Fire Department, in Sonora, California. The purpose of the meeting is to hear presentations made by project proponents requesting RAC funding.

DATES: The meeting will be held September 10, 2012, from 12:00 p.m. to 4:00 p.m.

ADDRESSES: The meeting will be held at the City of Sonora Fire Department located at 201 South Shepherd Street, in Sonora, California (CA 95370).

FOR FURTHER INFORMATION CONTACT: Beth Martinez, Committee Coordinator, USDA, Stanislaus National Forest, 19777 Greenley Road, Sonora, CA 95370, (209) 532-3671, extension 320; email bethmartinez@fs.fed.us.

SUPPLEMENTARY INFORMATION: Agenda items to be covered include: (1) Presentation of primarily Forest Service project submittals by project proponents; (2) public comment on meeting proceedings. This meeting is open to the public.

Dated: August 6, 2012.
Susan Skalski,
Forest Supervisor.

[FR Doc. 2012-19817 Filed 8-13-12; 8:45 am]

BILLING CODE 3410-11-P